DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Public Law 106-393) the Kootenai National Forest's Lincoln County Resource Advisory Committee will meet on Wednesday, January 5, 2011 at 6 p.m. at the Forest Supervisor's Office in Libby, Montana for a business meeting. The meeting is open to the public.

DATES: January 5, 2011.

ADDRESSES: Forest Supervisor's Office, 31374 US Hwy 2, Libby, Montana.

FOR FURTHER INFORMATION CONTACT: Janette Turk, Committee Coordinator, Kootenai National Forest at (406) 283-7764, or e-mail jturk@fs.fed.us.

SUPPLEMENTARY INFORMATION: Agenda will include planning for future RAC priorities. If the meeting date or location is changed, notice will be posted in the local newspapers, including the Daily Interlake based in Kalispell, Montana.

Dated: December 16, 2010.
Paul Bradford,
Forest Supervisor.

[FR Doc. 2010-32442 Filed 12-23-10; 8:45 am]

BILLING CODE 3410-11-P